NATIONAL ARCHIVES AND RECORDS ADMINISTRATION

[NARA-2025-025]

State, Local, Tribal, and Private Sector Policy Advisory Committee (SLTPS-PAC); Meeting

AGENCY: Information Security Oversight Office (ISOO), National Archives and Records Administration (NARA).

ACTION: Notice of Federal advisory committee meeting.

SUMMARY: We are announcing an upcoming meeting of the State, Local, Tribal, and Private Sector Policy Advisory Committee (SLTPS-PAC) in accordance with the Federal Advisory Committee Act and implementing regulations.

DATES: The meeting will be on July 9, 2025, from 10am to 11am (ET).

ADDRESSES: This meeting will be a hybrid of virtual and in person in the Adams Conference Room, 700 Pennsylvania Avenue, Washington, DC 20408. We will send instructions on how to access the meeting to those who register according to the instructions below.

FOR FURTHER INFORMATION CONTACT: Heather Harris Pagán, ISOO Senior Program Analyst, at SLTPS_PAC@nara.gov or (202) 357-5351. Contact ISOO at ISOO@nara.gov.

SUPPLEMENTARY INFORMATION: This meeting is open to the public in accordance with the Federal Advisory Committee Act (5 U.S.C. app 2) and implementing regulations at 41 CFR 102-3. The Committee will discuss matters relating to the classified national security information program for state, local, tribal, and private sector entities.

Procedures: Members of the public must register in advance for the meeting through the link https://www.zoomgov.com/webinar/register/WN_ZCZ7IV_xQbGFyrk2_p3dkw if they wish to attend. Please notify Heather Harris Pagán if you will be in person.

Merrily Harris,
Committee Management Officer.

[FR Doc. 2025-11168 Filed 6-16-25; 8:45 am]

BILLING CODE 7515-01-P